DEPARTMENT OF JUSTICE

Notice of Lodging of Settlement Agreement Under the Comprehensive Environmental Response, Compensation, and Liability Act

Notice is hereby given that on September 23, 2004, a proposed Settlement Agreement (the “Agreement”) in In re: Farmland Industries, Inc., et al., Case No. 02-50557, was lodged with the United States Bankruptcy Court for the Western District of Missouri.

In this settlement the United States resolves the Environmental Protection Agency's claim for cost recovery for costs to be incurred remediating environmental contamination at the Obee Road Superfund Site in Hutchinson, Kansas. Farmland Industries, Inc. has been identified as a responsible party under the Comprehensive Environmental Response, Compensation and Liability Act (“CERCLA”) in connection with this Site. and civil penalties under CERCLA, the Clean Water Act, and the Clean Air Act against Farmland Industries, Inc. The Settlement Agreement provides that the United States will have an allowed general unsecured claim of $940,000, in settlement of the above-described claim. The United States previously has recovered from Farmland its past costs incurred at the Obee Road Site.

The Department of Justice will receive for a period of thirty (30) days from the date of this publication comments relating to the Settlement Agreement. Comments should be addressed to the Assistant Attorney General, Environment and Natural Resources Division, P.O. Box 7611, U.S. Department of Justice, Washington, DC 20044-7611, and should refer to In re: Farmland Industries, Inc., et al., Case No. 02-50557, Bankruptcy Court for Western District of Missouri, D.J. Ref. #90-5-1-1-06976/3.

The Settlement Agreement may be examined at the Office of the United States Attorney, 400 E. 9th Street, Kansas City, MO 64106, and at U.S. EPA Region 7, 901 N. 5th Street, Kansas City, Kansas 66101. During the public comment period, the Settlement Agreement may also be examined on the following Justice Department Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $1.00 (25 cents per page reproduction cost) payable to the U.S. Treasury.

Catherine R. McCabe,
Deputy Chief, Environmental Enforcement Section, Environment and Natural Resources Division.

[FR Doc. 04-22525 Filed 10-6-04; 8:45 am]

BILLING CODE 4410-15-M